DEPARTMENT OF INTERIOR

Bureau of Land Management

Notice of Stay of Filing of Plat

[LLCO956000-L14200000 BJ0000]

AGENCY: Bureau of Land Management, Interior.

ACTION: Notice of Stay of Filing of Plat.

SUMMARY: On Wednesday, January 14, 2009, the Bureau of Land Management (BLM) published a Filing of Plats of Survey notice in the Federal Register (74 FR 2090). This notice provided the public notification that the plat was officially filed in the Colorado State Office, effective 10 a.m., December 31, 2008. The BLM is publishing this notice to inform the public of the setting aside of the plat filing and to afford all affected parties a proper period of time to protest this action, prior to the plat filing.

DATES: The filing of this plat is set aside until August 28, 2009.

ADDRESSES: Colorado State Office (CO-956), Bureau of Land Management, 2850 Youngfield Street, Lakewood, Colorado 80215-7093.

FOR FURTHER INFORMATION CONTACT: Paul Lukacovic, Acting Chief Cadastral Surveyor for Colorado, (303) 239-3818.

SUPPLEMENTARY INFORMATION: If a protest of this dependent resurvey is received prior to the date of the official filing, the official filing will be stayed pending consideration of the merits of the protest. Pursuant to the United States Department of the Interior, Office of Hearings and Appeals, Interior Board of Land Appeals order dated June 15, 2009, concerning IBLA 2009-112 and 2009-113, McCollum Family Limited Partnership Number One, L.L.L.P. et al., the BLM, Colorado State Office's December 31, 2008 (74 FR 2090), the official filing of the dependent resurvey of the east boundary and a portion of the subdivisional lines in Township 42 North, Range 13 West, New Mexico Principal Meridian, Colorado, is set aside.

This particular plat will not be officially filed until after all protests have been accepted or dismissed and become final.

Paul Lukacovic,
Acting, Chief Cadastral Surveyor for Colorado.

[FR Doc. E9-16652 Filed 7-13-09; 8:45 am]

BILLING CODE 4310-JB-P